DEPARTMENT OF LABOR

Employment and Training Administration

[TA-W-61,048]

Emerson Network Power, Formerly Artesyn Communication Products, Madison, WI; Notice of Termination of Investigation

Pursuant to Section 221 of the Trade Act of 1974, as amended, an investigation was initiated on March 1, 2007 in response to a petition filed by a company official on behalf of workers of Emerson Network Power, formerly Artesyn Communications Products, Madison, Wisconsin.

The petitioner has requested that this petition be withdrawn. Consequently, further investigation in this case would serve no purpose, and the investigation has been terminated.

Signed at Washington, DC, this 16th day of March, 2007.
Linda G. Poole,
Certifying Officer, Division of Trade Adjustment Assistance.

[FR Doc. E7-5849 Filed 3-29-07; 8:45 am]

BILLING CODE 4510-FN-P